DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NAC).

Date and Time: May 6, 2015 from 2:00 p.m.-3:30 p.m. (EST).

Place: Conference Call Format.

Status: The meeting will be open to the public.

Purpose: The NAC provides advice to the Secretary of the Department of Health and Human Services and the Administrator of the Health Resources and Services Administration (HRSA), with respect to their responsibilities for designating areas of the United States with critical health professional shortages (i.e., Health Professional Shortage Area) and assigning health care personnel to improve the delivery of health services in these areas.

Agenda: The members of the NAC will discuss: (a) The activities and goals for fiscal year 2016 for the National Health Service Corps; (b) their vision and approaches for future NAC meetings; and (c) planning for an in-person meeting. The official agenda will be available 2 days prior to the meeting on the HRSA Web site at: http://nhsc.hrsa.gov/corpsexperience/aboutus/nationaladvisorycouncil/. Agenda items are subject to change as priorities dictate.

Public Comment: Requests to make oral comments or provide written comments to the NAC should be sent to CAPT Shari Campbell, Designated Federal Official, using the address and phone number below. Individuals who plan to participate on the conference call should notify CAPT Campbell at least 3 days prior to the meeting, using the address and phone number below. Members of the public will have the opportunity to provide comments. Interested parties should refer to the meeting, in the subject line, as the HRSA National Advisory Council on the National Health Service Corps. The conference call-in number is: 888-566-5974. The passcode is: 4439136.

FOR FURTHER INFORMATION CONTACT: Anyone requesting information regarding the NAC should contact CAPT Shari Campbell, Designated Federal Official, Bureau of Health Workforce, HRSA, in one of three ways: (1) Send a request to the following address: CAPT Shari Campbell, Designated Federal Official, Bureau of Health Workforce, HRSA, Parklawn Building, Room 8C-26, 5600 Fishers Lane, Rockville, Maryland 20857; (2) call (301) 594-4251; or (3) send an email to scampbell@hrsa.gov.

Jackie Painter,
Director, Division of the Executive Secretariat.

[FR Doc. 2015-09078 Filed 4-20-15; 8:45 am]

BILLING CODE 4165-15-P